DEPARTMENT OF HOMELAND SECURITY

Coast Guard

33 CFR Part 165

[Docket Number USCG-2025-0219]

RIN 1625-AA00

Safety Zone; Pier 15 Fireworks; San Francisco Bay, San Francisco, CA

AGENCY: Coast Guard, DHS.

ACTION: Temporary final rule.

SUMMARY: The Coast Guard is establishing a temporary safety zone on the navigable waters of the San Francisco Bay, off of Pier 15, in San Francisco, CA in support of fireworks displays on March 22, 2025, March 29, 2025, April 19, 2025, April 26, 2025, and May 3, 2025. This safety zone is necessary to protect personnel, vessels, and the marine environment from potential hazards created by pyrotechnics. Unauthorized persons or vessels are prohibited from entering into, transiting through, or remaining in the safety zone without the permission of the Captain of the Port, Sector San Francisco or a designated representative.

DATES:

Effective date: This temporary rule is effective without actual notice from March 28, 2025 through 10:30 p.m. on May 3, 2025.

Enforcement dates: Coast Guard will enforce this temporary rule from 9:15 p.m. to 10:30 p.m. on March 22, 2025, March 29, 2025, April 19, 2025, April 26, 2025, and May 3, 2025.

ADDRESSES: To view documents mentioned in this preamble as being available in the docket, go to https://www.regulations.gov, type USCG-2025-0219 in the search box and click “Search.” Next, in the Document Type column, select “Supporting & Related Material.”

FOR FURTHER INFORMATION CONTACT: If you have questions about this rule, call or email Lieutenant William K. Harris, U.S. Coast Guard Sector San Francisco, Waterways Management Division; telephone: (415) 399-7443, email: SFWaterways@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because the Coast Guard did not receive final details for this event until March 3, 2025, and action is needed to protect personnel and vessels from the potential hazards associated with pyrotechnics. It is impracticable to publish an NPRM because we must establish this safety zone by March 22, 2025.

Also, under 5 U.S.C. 553(d)(3), the Coast Guard finds that good cause exists for making this rule effective less than 30 days after publication in the Federal Register. Delaying the effective date of this rule would be contrary to the public interest because action is necessary to protect personnel, vessels, and the marine environment from the potential safety hazards associated with the fireworks displays off Pier 15 in San Francisco, CA on March 22, 2025, March 29, 2025, April 19, 2025, April 26, 2025, and May 3, 2025.

III. Legal Authority and Need for Rule

The Coast Guard is issuing this rule under authority in 46 U.S.C. 70034. The Captain of the Port, Sector San Francisco (COTP) has determined that potential hazards associated with the scheduled Pier 15 Fireworks displays on March 22, 2025, March 29, 2025, April 19, 2025, April 26, 2025, and May 3, 2025, will be a safety concern for anyone within a 200-yard radius of the fireworks vessel starting approximately 30 minutes before the fireworks displays are scheduled to commence and ending 30 minutes after the conclusion of the fireworks displays. This rule is needed to protect personnel, vessels, and the marine environment in the navigable waters around the fireworks vessel during the fireworks display.

IV. Discussion of the Rule

This rule establishes a safety zone from 9:15 p.m. until 10:30 p.m. on March 22, 2025, March 29, 2025, April 19, 2025, April 26, 2025, and May 3, 2025, during the staging of the fireworks vessel and until 30 minutes after the completion of the fireworks display. The fireworks displays are scheduled to start at approximately 9:50 p.m. and end at approximately 10 p.m. on March 22, 2025, March 29, 2025, April 19, 2025, April 26, 2025, and May 3, 2025, off Pier 15 within the San Francisco Bay in San Francisco, CA.

At 9:15 p.m. on the dates listed above, approximately 30 minutes prior to the commencement of the 10-minute fireworks display, the safety zone will encompass the navigable waters around and under the fireworks vessel, from surface to bottom, within an circle formed by connecting all points 200 yards from the circle center at approximate position 37°48′8.45″ N, 122°23′42.26″ W (NAD 83). The safety zone will terminate at 10:30 p.m. on the dates listed above, or as announced via Broadcast Notice to Mariners.

The establishment of this safety zone is needed to ensure the safety of vessels in the navigable waters within 200-yards of the fireworks display. No vessel or person will be permitted to enter the safety zone without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, this rule has not been reviewed by the Office of Management and Budget (OMB).

This regulatory action determination is based on the size, location, duration, and time of day of the safety zone. Although this rule restricts access to the waters encompassed by the safety zone, the effect of this rule will not be significant because the local waterway users will be notified to ensure the safety zone will result in minimum impact. Mariners will be able to plan and transit outside of the periods of enforcement of the safety zone. The limited duration of the safety zone will mitigate impacts to vessel traffic in the area of the safety zone. The entities most likely affected are commercial vessels and pleasure craft engaged in recreational activities.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have Tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a safety zone lasting only 1 hour fifteen minutes at a time and cumulatively less than 7 hours that will prohibit entry within 200 yards of the fireworks vessel during staging and the fireworks display off of Pier 15 within the waters of the San Francisco Bay. It is categorically excluded from further review under paragraph L60(a) of Appendix A, Table 1 of DHS Instruction Manual 023-01-001-01, Rev. 1. A Record of Environmental Consideration supporting this determination is available in the docket. For instructions on locating the docket, see the ADDRESSES section of this preamble.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.T11-200 to read as follows:

§ 165.T11-200 Safety Zone; Pier 15 Fireworks; San Francisco Bay, San Francisco, CA.

(a) Locations. The following area is a safety zone: all navigable waters of the San Francisco Bay, from surface to bottom, within a circle formed by connecting all points 200 yards out from the fireworks vessel in approximate position 37°48′8.45″ N, 122°23′42.26″ W (NAD 83) or as announced by Broadcast Notice to Mariners.

(b) Definitions. As used in this section, “designated representative” means a Coast Guard Patrol Commander, including a Coast Guard coxswain, petty officer, or other officer operating a Coast Guard vessel, or a Federal, State, or local officer designated by or assisting the Captain of the Port, Sector San Francisco (COTP) in the enforcement of the safety zone.

(c) Regulations. (1) Under the general safety zone regulations in subpart C of this part, you may not enter the safety zone described in paragraph (a) of this section unless authorized by the COTP or the COTP's designated representative.

(2) The safety zone is closed to all vessel traffic, except as may be permitted by the COTP or the COTP's designated representative.

(3) Vessel operators desiring to enter or operate within the safety zone must contact the COTP or the COTP's designated representative to obtain permission to do so. Vessel operators given permission to enter in the safety zone must comply with all lawful orders or directions given to them by the COTP or the COTP's designated representative while within the zone. Persons and vessels may request permission to enter the safety zone through the 24-hour Command Center at telephone (415) 399-7330.

(d) Enforcement period. This section will be enforced from 9:15 p.m. until 10:30 p.m. on March 22, 2025, March 29, 2025, April 19, 2025, April 26, 2025, and May 3, 2025.

Dated: March 17, 2025.
Jordan M. Baldueza,
Captain, U.S. Coast Guard, Captain of the Port, Sector San Francisco.

[FR Doc. 2025-05387 Filed 3-27-25; 8:45 am]

BILLING CODE 9110-04-P